DEPARTMENT OF TRANSPORTATION

Federal Transit Administration

Fiscal Year 2021 Competitive Funding Opportunity: Areas of Persistent Poverty Program

SUMMARY: Federal Transit Administration (FTA), U.S. Department of Transportation (DOT).

SUMMARY: Notice of funding opportunity (NOFO).

SUMMARY: The Federal Transit Administration (FTA) announces the opportunity to apply for $16,259,614 in funding from Fiscal Year (FY) 2020 ($39,614) and FY 2021 ($16,220,000) for the Areas of Persistent Poverty Program (Federal Assistance Listing: 20.505). As required by law, funds will be awarded competitively for planning, engineering, or development of technical or financing plans for projects that assist areas of persistent poverty. FTA may award additional funds if they are made available to the program prior to the announcement of project selections.

DATES: Complete proposals must be submitted electronically through the GRANTS.GOV “APPLY” function by 11:59 p.m. Eastern Time on August 30, 2021. Prospective applicants should initiate the process by registering on the GRANTS.GOV website immediately to ensure completion of the application process before the submission deadline. Instructions for applying can be found on FTA's website at http://transit.dot.gov/howtoapply and in the “FIND” module of GRANTS.GOV. The funding opportunity ID is FTA-2021-005-TPE. Mail and fax submissions will not be accepted.

FOR FURTHER INFORMATION CONTACT: Tonya P. Holland, FTA Office of Planning and Environment, 202-493-0283, or tonya.holland@dot.gov. A TDD is available at 1-800-877-8339 (TDD/FIRS).

SUPPLEMENTARY INFORMATION:

Table of Contents

A. Program Description

B. Federal Award Information

C. Eligibility Information

D. Application and Submission Information

E. Application Review Information

F. Federal Award Administration Information

G. Federal Awarding Agency Contacts

H. Other Information

A. Program Description

The Areas of Persistent Poverty Program provides funds to eligible recipients or subrecipients under Title 49 U.S.C. Sections 5307, 5310, or 5311 located in areas of persistent poverty. Funding to implement the Areas of Persistent Poverty Program was appropriated by the Further Consolidated Appropriations Act, 2020 (Pub. L. 116-94, Dec. 20, 2019) and the Consolidated Appropriations Act, 2021 (Pub. L. 116-260, Dec. 27, 2020), and will be awarded through a competitive process, as described in this notice. This funding opportunity is occurring under Federal Assistance Listing number 20.505.

FTA will award grants to eligible applicants for planning, engineering, or development of technical or financing plans for projects eligible under Chapter 53 of title 49, United States Code. Applicants are encouraged to work with non-profits or other entities of their choosing to develop an eligible project. An eligible project for this NOFO is defined as a planning study (including a planning and environmental linkages study that advances the environmental analysis and review process as part of the metropolitan planning process), an engineering study, a technical study, or a financial plan.

This program supports FTA's strategic goals and objectives through the timely and efficient investment in public transportation. This program also supports the Biden-Harris Administration's agenda to mobilize American ingenuity to build modern infrastructure and an equitable, clean energy future. By supporting increased transit access for environmental justice (EJ) populations (see FTA Circular 4703.1), equity-focused community outreach, public engagement of underserved communities, adoption of equity-focused policies, reducing greenhouse gas emissions, and addressing the effects of climate change, FTA's Areas of Persistent Poverty Program advances the goals of Executive Order 13985: Advancing Racial Equity and Support for Underserved Communities Through the Federal Government; Executive Order 13990: Protecting Public Health and the Environment and Restoring Science to Tackle the Climate Crisis; and Executive Order 14008: Tackling the Climate Crisis at Home and Abroad.

FTA seeks to use the Areas of Persistent Poverty Program to encourage racial equity in two areas: (1) Planning and policies related to racial equity and barriers to opportunity; and (2) engineering, or development of technical or financing plans, for project investments that either proactively addresses racial equity and barriers to opportunity, including automobile dependence as a form of barrier, or redress prior inequities and barriers to opportunity.

B. Federal Award Information

FTA intends to award all available funding (approximately $16.26 million) in the form of grants to selected applicants responding to this NOFO. Additional funds made available for this program prior to project selection may be allocated to eligible projects. Funds will remain available for obligation for four fiscal years, not including the year in which the funds are allocated to projects.

Only proposals from eligible recipients for eligible activities will be considered for funding. FTA anticipates a maximum grant award not to exceed $850,000.

In response to a NOFO that closed on May 4, 2020, FTA received applications for 28 eligible projects requesting a total of $11,062,307. Of the 28 projects, 25 projects were selected and funded for a total of $8.46 million.

C. Eligibility Information

1. Eligible Applicants

Eligible applicants include States, tribes, and designated or direct recipients eligible under 49 U.S.C. 5307, 49 U.S.C. 5310, or 49 U.S.C. 5311 that are located in areas of persistent poverty. State departments of transportation may apply on behalf of eligible applicants within their States. Applicants are also encouraged to work with non-profit organizations.

For the funding made available in FY 2021, eligible projects must be located: (1) In a county that had greater than or equal to 20 percent of the population living in poverty over the 30-year period preceding the date of enactment of the Consolidated Appropriations Act, 2021 (Pub. L. 116-260, December 27, 2020), as measured by the 1990 and 2000 decennial census and the most recent Small Area Income and Poverty Estimates, or (2) in a census tract with a poverty rate of at least 20 percent as measured by the 2014-2018 five-year data series available from the American Community Survey of the Bureau of the Census; or (3) in any territory or possession of the United States. Use this link to confirm that your proposed project is in an Area of Persistent Poverty and document that in the Supplemental Form to the application— https://datahub.transportation.gov/stories/s/tsyd-k6ij.

For the funding made available in FY 2020, eligible projects must be located: (1) In a county that consistently had 20 percent or more of the population living in poverty over the 30-year period preceding the date of enactment of the Further Consolidated Appropriations Act, 2020 (Pub. L. 116-94, Dec. 20, 2019), as measured by the 1990 and 2000 decennial census and the most recent Small Area Income and Poverty Estimates, or (2) in a census tract with a poverty rate of at least 20 percent as measured by the 2013-2017 five-year data series available from the American Community Survey of the Bureau of the Census.

Given the small amount of FY 2020 funding available, eligible applicants for FY 2020 funds must also meet the eligibility requirements for funding in FY 2021 in order to receive available FY 2020 funding. Eligible applicants must be able to demonstrate the requisite legal, financial, and technical capabilities to receive and administer Federal funds under this program.

As described in the Appropriations Acts, applicants are encouraged to work with non-profits or other entities of their choosing to develop planning, technical, engineering, or financing plans, and applicants are encouraged to partner with non-profits that can assist with making projects low or no emissions. If an application that involves such a partnership is selected for funding, the selection process for the non-profit or other nongovernmental partners must satisfy the requirements for a competitive procurement under 49 U.S.C. 5325(a). A competitive selection process conducted by the applicant prior to applying for an Area of Persistent Poverty award will be deemed to satisfy the requirements of 49 U.S.C. 5325(a) for the named entities. Applicants are advised that any changes to the proposed partnership will require written FTA approval, must be consistent with the scope of the approved project, and may necessitate a competitive procurement.

2. Cost Sharing or Matching

The minimum Federal share for projects selected under the Areas of Persistent Poverty Program is 90 percent of the net total project cost (i.e., the local share will be no more than 10 percent of the net total project cost, not 10 percent of the requested grant amount).

Eligible sources of local match include the following: Cash from non-Government sources other than revenues from providing public transportation services; revenues derived from the sale of advertising and concessions; amounts received under a service agreement with a State or local social service agency or private social service organization; revenues generated from value capture financing mechanisms; or funds from an undistributed cash surplus; replacement or depreciation cash fund or reserve; or new capital. In addition, transportation development credits or documentation of in-kind match may be used as local match if identified and documented in the application.

3. Eligibility Criteria

i. Eligible Activities

Under the Areas of Persistent Poverty Program, eligible projects are planning, engineering, or development of technical or financing plans for projects eligible under Chapter 53 of title 49, United States Code. For example, these activities may include planning, engineering, or development of technical or financing plans for improved transit services; new transit routes; engineering for transit facilities and improvements to existing facilities; innovative technologies; low or no emission buses or a new bus facility or intermodal center that supports transit services; integrated fare collections systems; or coordinated public transit human service transportation plans to improve transit service in an area of persistent poverty or to provide new service such as transportation for services to address the opioid epidemic, as well as increase access to environmental justice populations, while reducing greenhouse gas emissions and the effects of climate change. An eligible project also may be a planning and environmental linkages study that advances the environmental analysis and review process as part of the metropolitan planning process.

ii. Ineligible Activities

It is important to note that capital, maintenance, or operating costs of any type are, not eligible for funding under the Areas of Persistent Poverty Program. Procurement of vehicles or equipment and support of the operation and maintenance of systems also are ineligible activities.

D. Application and Submission Information

1. Address To Request Application Package

The application package may be obtained from GRANTS.GOV. Applications must be submitted electronically through GRANTS.GOV. General information for submitting applications through GRANTS.GOV can be found at https://www.grants.gov/web/grants/applicants.html, along with specific instructions for the forms and attachments required for submission. The Standard Form 424 (SF-424), Application for Federal Assistance, which must be included with every application, can be downloaded from GRANTS.GOV. Mail and fax submissions will not be accepted.

A complete proposal submission consists of two forms: The SF-424 Application for Federal Assistance (downloaded from GRANTS.GOV) and the Supplemental Form for the FY 2021 Areas of Persistent Poverty Program (downloaded from GRANTS.GOV or the FTA website at https://www.transit.dot.gov). Failure to submit the information as requested can delay review or disqualify the application.

2. Content and Form of Application Submission

Proposals must include a completed SF-424 Application for Federal Assistance form and the following attachments to the completed SF-424:

i. A completed Applicant and Proposal Profile supplemental form for the Areas of Persistent Poverty Program (Supplemental Form) found on the FTA website at https://www.transit.dot.gov. The information on the Supplemental Form will be used to determine applicant and project eligibility for the program, and to evaluate the proposal against the selection criteria described in part E of this notice;

ii. A map of the proposed study area with which to confirm alignment between the proposed study area and areas of persistent poverty;

iii. Documentation of any partnerships between the applicant and other organizations to carry out the proposed activities. Documentation may consist of a memorandum of agreement or letter of intent signed by all parties that describes the parties' roles and responsibilities in the proposed project; and

iv. Documentation of any funding commitments for the proposed work.

FTA will accept only one Supplemental Form per SF-424 submission. FTA encourages States and other applicants to consider submitting a single Supplemental Form that includes multiple activities to be evaluated as a consolidated proposal. If a State or other applicant chooses to submit separate proposals for individual consideration by FTA, each proposal must be submitted using a separate SF-424 and Supplemental Form.

Applicants may attach additional supporting information to the SF-424 submission, including but not limited to letters of support, project budgets, fleet status reports, or excerpts from relevant planning documents. Supporting documentation must be described and referenced by file name in the appropriate response section of the Supplemental Form, or it may not be reviewed.

Information such as the applicant's name, Federal amount requested, local match amount, and description of the study area are requested in varying degrees of detail on both the SF-424 form and Supplemental Form. Applicants must fill in all fields unless stated otherwise on the forms. Applicants should use both the “Check Package for Errors” and the “Validate Form” buttons on both forms to check all required fields and to ensure that the Federal and local amounts specified are consistent. In the event of errors with the Supplemental Form, FTA recommends saving the form on your computer and ensuring that JavaScript is enabled in your PDF editor. The information listed below MUST be included on the SF-424 and Supplemental Form for Areas of Persistent Poverty Program funding applications.

The SF-424 Mandatory Form and the Supplemental Form will prompt applicants for the following items:

1. Provide the name of the lead applicant and, if applicable, the specific co-sponsors submitting the application.

2. Provide the applicant's Dun and Bradstreet Data Universal Numbering System (DUNS) number.

3. Provide contact information including: Contact name, title, address, phone number, and email address.

4. Specify the Congressional district(s) where the planning project will take place.

5. Identify the project title and project scope to be funded, including anticipated substantial deliverables and the milestones for when they will be provided to FTA.

6. Identify and describe the eligible project that meets the requirements of Section C, subsection 3 of this notice, including a detailed description of the need for planning, engineering, or development of technical, or financial planning activities.

7. Address each evaluation criterion separately, demonstrating how the project responds to each criterion as described in Section E and how the project will support the Areas of Persistent Poverty Program objectives.

8. Provide a line-item budget for the project, with enough detail to indicate the various key components of the project.

9. Identify the Federal amount requested.

10. Document the matching funds, including the amount and source of the match (may include local or private sector financial participation in the project). Describe whether the matching funds are committed or planned, and include documentation of the commitments.

11. Provide an explanation of the scalability of the project.

12. Address whether other Federal funds have been sought or received for the comprehensive planning project.

13. Provide a schedule and process for the project that includes anticipated dates for incorporating the project into the region's unified planning work program, completing major tasks and substantial deliverables, and completing the project.

14. Describe how the proposed project advances the metropolitan transportation plan of the metropolitan planning organization or the statewide long-range plan prepared by the State department of transportation.

15. Propose performance criteria for the development and implementation of the proposed activities funded under the Areas of Persistent Poverty Program.

16. Identify potential State, local, or other impediments to the deliverables of the Areas of Persistent Poverty-funded work and their implementation, and how the impediments will be addressed.

17. Describe how the proposed activities address climate change. Applicants should identify any air quality nonattainment or maintenance areas under the Clean Air Act in the planning or study area. Nonattainment or maintenance areas should be limited to the following applicable National Ambient Air Quality Standards criteria pollutants: Carbon monoxide, ozone, and particulate matter 2.5 and 10. The U.S. Environmental Protection Agency's Green Book (available at https://www.epa.gov/green-book) is a publicly-available resource for nonattainment and maintenance area data. This consideration will further the goals of Executive Order 13990: Protecting Public Health and the Environment and Restoring Science to Tackle the Climate Crisis, and Executive Order 14008: Tackling the Climate Crisis at Home and Abroad.

18. Describe how the proposed activities address environmental justice populations, racial equity, and barriers to opportunity.

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. FTA may not make an award until the applicant has complied with all applicable unique entity identifiers and SAM requirements. If an applicant has not fully complied with the requirements by the time FTA is ready to make an award, FTA may determine that the applicant is not qualified to receive an award and use that determination as a basis for making a Federal award to another applicant. These requirements do not apply if the applicant is an individual or has an exemption approved by FTA or the U.S. Office of Management and Budget pursuant to 2 CFR 25.110(c) or (d). SAM registration takes approximately 3-5 business days, but FTA recommends allowing ample time, up to several weeks, for completion of all steps. For additional information on obtaining a unique entity identifier, please visit https://www.sam.gov.

Non-Federal entities that have received a Federal award are required to report certain civil, criminal, or administrative proceedings to SAM (currently the Federal Awardee Performance and Integrity Information System (FAPIIS) to ensure registration information is current and to comply with federal requirements. Applicants should refer to 2 CFR 200.113 for more information.

4. Submission Dates and Times

Project proposals must be submitted electronically through GRANTS.GOV by 11:59 p.m. eastern time August 30, 2021. GRANTS.GOV attaches a timestamp to each application at the time of submission. Proposals submitted after the deadline will be considered only under extraordinary circumstances not under the applicant's control. Mail and fax submissions will not be accepted.

Within 48 hours after submitting an electronic application, the applicant should receive two email messages from GRANTS.GOV: (1) Confirmation of successful transmission to GRANTS.GOV; and (2) confirmation of successful validation by GRANTS.GOV. FTA will then validate the application and will attempt to notify any applicants whose applications could not be validated. If the applicant does not receive confirmation of successful validation or a notice of failed validation or incomplete materials, the applicant must address the reason for the failed validation, as described in the email notice, and resubmit before the submission deadline. If making a resubmission for any reason, include all original attachments regardless of which attachments were updated, and check the box on the Supplemental Form indicating this is a resubmission. An application that is submitted at the deadline and cannot be validated will be marked as incomplete, and such applicants will not receive additional time to re-submit.

FTA urges applicants to submit their applications at least 96 hours prior to the due date to allow time to receive the validation messages and to correct any problems that may have caused a rejection notification. GRANTS.GOV scheduled maintenance and outage times are announced on the GRANTS.GOV website. Deadlines will not be extended due to scheduled maintenance or outages.

Applicants are encouraged to begin the registration process on the GRANTS.GOV site well in advance of the submission deadline. Registration in GRANTS.GOV is a multi-step process, which may take several weeks to complete before an application can be submitted. Applicants who are already registered in GRANTS.GOV may be required to take steps to keep their registration up to date before submissions can be made successfully: (1) Registration in the System for Award Management (SAM) is renewed annually, and (2) persons making submissions on behalf of the Authorized Organization Representative (AOR) must be authorized in GRANTS.GOV by the AOR to make submissions.

5. Funding Restrictions

See Section C of this NOFO for detailed eligibility requirements. Funds under this NOFO cannot be used to reimburse applicants for otherwise eligible expenses incurred prior to an FTA award of a grant agreement unless FTA has issued pre-award authority for selected projects. Refer to Section C.3 of this NOFO (Eligible Projects) for information on activities that are eligible for funding under this grant program. Allowable direct and indirect expenses must be consistent with the government-wide Uniform Administrative Requirements and Cost Principles (2 CFR part 200) and FTA Circular 5010.1E.

6. Other Submission Requirements

The minimum Federal share for projects selected under the Areas of Persistent Poverty Program is 90 percent of the net total project cost (i.e., the local share will be no more than 10 percent of the net total project cost, not 10 percent of the requested grant amount). Applicants are encouraged to identify scaled funding options in case insufficient funding is available to fund a project at the full requested amount. If an applicant indicates that a project is scalable, the applicant must provide either (1) a minimum Federal funding amount (not less than 90 percent of the net total project cost); or (2) a reduced net total project cost and minimum Federal funding amount (not less than 90 percent of the reduced net total project cost) that will fund an eligible project that achieves the objectives of the program and meets all relevant program requirements. The applicant must provide a clear explanation of how the project would be affected by a reduced award. FTA may award a lesser amount whether a scalable option is provided.

All applications must be submitted via the GRANTS.GOV website. FTA does not accept applications on paper, by fax machine, email, or other means. For information on application submission requirements, please see Section D.1., Address to Request Application, and Section D.4., Submission Dates and Times.

E. Application Review Information

1. Criteria

Project proposals will be evaluated primarily on the responses provided in the Supplemental Form. Additional information may be provided to support the responses; however, any additional documentation must be directly referenced on the Supplemental Form, including the file name where the additional information can be found. Applications will be evaluated based on the quality and extent to which the following evaluation criteria are addressed.

a. Demonstration of Need

Applications will be evaluated based on the quality and extent to which they demonstrate how the proposed activities will support planning, engineering, or development of technical or financing plans that would result in a project eligible for funding under Chapter 53 of Title 49, United States Code.

b. Demonstration of Benefits

Applications will be evaluated based on how well they describe how the proposed planning, engineering, or development of technical or financing plans address the existing condition of the transit system, improve the reliability of transit service for its riders, enhance access and mobility within the service area, accelerate innovation in areas of persistent poverty to serve unmet needs, promote emissions reductions, reduce barriers to affordable housing, address racial equity and reduce barriers to opportunity, and support environmental justice populations. The following factors will be considered:

i. System Condition. FTA will evaluate the potential for the planning, engineering, or development of technical or financing plans to lead to an improvement in the condition of the transit system in areas of persistent poverty.

ii. Service Reliability. FTA will evaluate the potential for the planning, engineering, or development of technical or financing plans to lead to a reduction in the frequency of breakdowns or other service interruptions caused by the age and condition of the agency's transit vehicle fleet, and improve system reliability.

iii. Enhanced Access and Mobility. FTA will evaluate the potential for the planning, engineering, or development of technical or financing plans to lead to improved access and mobility for the transit riding public, such as through increased reliability, improved headways, creation of new transportation choices, or eliminating gaps in the current route network.

iv. Accelerating Innovation. FTA will evaluate the potential for the planning, engineering, or development of technical or financing plans to accelerate the introduction of innovative technologies or practices such as integrated fare payment systems permitting complete trips or advancements to propulsion systems. Innovation can also include practices such as new public transportation operational models, financial or procurement arrangements, or value capture strategies.

v. Emissions Reductions. FTA will evaluate the potential for the planning study, engineering study, or development of technical or financing plans to identify proposed actions that will reduce greenhouse gas and other harmful pollutants and/or improve resilience to climate change.

vi. Barriers to Low Income Housing. FTA will evaluate the degree to which the planning study, engineering study, or development of technical or financial plans identify proposed actions that reduce regulatory barriers that unnecessarily raise the costs of housing development or impede the development of affordable housing.

vii. Racial Equity and Barriers to Opportunity. FTA will evaluate the extent to which the planning study, engineering study, or development of technical or financial plans either proactively address racial equity and barriers to opportunity, including automobile dependence as a form of barrier, or redress prior inequities and barriers to opportunity. FTA also will consider the extent to which applications incorporate such activities as equity-focused community outreach and public engagement of underserved communities in the planning process, and adoption of an equity and inclusion program/plan or equity-focused policies.

viii. Environmental Justice. FTA will evaluate the extent to which the planning study, engineering study, or development of technical or financial plans will support increased access to transit for environmental justice populations and engages such populations in plan or study development. See FTA Circular 4703.1, “Environmental Justice Policy Guidance For Federal Transit Administration Recipients.”

ix. Regional Support. Applicants should provide evidence of regional or local support for the proposed project. Documentation may include support letters from local and regional planning organizations, local governmental officials, public agencies, and/or non-profit or private sector partners attesting to the need for the project.

c. Funding Commitments

Applicants must identify the source of the non-Federal cost-share and describe whether such funds are currently available for the project, or will need to be secured if the project is selected for funding. FTA will consider the availability of the local cost-share as evidence of local financial commitment to the project. Additional consideration will be given to those projects for which local funds have already been made available or reserved. Applicants should submit evidence of the availability of funds for the project (e.g., by including a board resolution, letter of support from the State, a budget document highlighting the line item or section committing funds to the proposed project, or other documentation of the source of non-Federal funds).

d. Project Implementation Strategy

FTA will evaluate the strength of the work plan, schedule, and process included in an application based on the following factors:

i. Extent to which the schedule contains sufficient detail, identifies all steps needed to implement the work proposed, and is achievable;

ii. Extent of partnerships, including with non-public sector entities; and

iii. The partnerships' technical capability to develop, adopt, and implement the plans, based on FTA's assessment of the applicant's description of the policy formation, implementation, and financial roles of the partners, and the roles and responsibilities of proposed staff.

e. Technical, Legal, and Financial Capacity

Applicants must demonstrate that they have the technical, legal, and financial capacity to undertake the project. FTA will review relevant oversight assessments and records to determine whether there are any outstanding legal, technical, or financial issues with the applicant that would affect the outcome of the proposed project. Applicants with unresolved legal, technical or financial compliance issues from an FTA compliance review or Federal grant-related Single Audit finding must explain how corrective actions taken will mitigate negative impacts on the proposed project.

2. Review and Selection Process

In addition to other FTA staff that may review the proposals, a technical evaluation committee will verify each proposal's eligibility and evaluate proposals based on the published evaluation criteria. Members of the technical evaluation committee and other FTA staff may request additional information from applicants, if necessary. Taking into consideration the findings of the technical evaluation committee, the FTA Administrator will determine the final selection of projects for program funding.

Among the factors in determining the allocation of program funds, FTA may consider geographic diversity and the applicant's receipt of other competitive awards. FTA may also consider capping the amount a single applicant may receive.

3. Federal Awardee Performance and Integrity Information System Check

Prior to making an award, FTA is required to review and consider any information about the applicant that is in the Federal Awardee Performance and Integrity Information Systems (FAPIIS) accessible through SAM. An applicant may review and comment on information about itself that a Federal awarding agency previously entered. FTA will consider any comments by the applicant, in addition to the other information in the designated integrity and performance system, in making a judgment about the applicant's integrity, business ethics, and record of performance under Federal awards when completing the review of risk posed by applicants as described in 2 CFR 200.206 Federal awarding agency review of risk posed by applicants.

F. Federal Award Administration Information

1. Federal Award Notice

The FTA Administrator will announce the final project selections on the FTA website. Project recipients should contact their FTA Regional Offices for additional information regarding allocations for projects under the Areas of Persistent Poverty Program.

i. Pre-Award Authority

FTA will issue specific guidance to recipients regarding pre-award authority at the time of selection. FTA does not provide pre-award authority for competitive funds until projects are selected and even then, there are Federal requirements that must be met before costs are incurred. Funds under this NOFO cannot be used to reimburse applicants for otherwise eligible expenses incurred prior to FTA award of a Grant Agreement until FTA has issued pre-award authority for selected projects, or unless FTA has issued a “Letter of No Prejudice” for the project before the expenses are incurred. For more information about FTA's policy on pre-award authority, please see the most recent Apportionment Notice at: https://www.transit.dot.gov.

ii. Grant Requirements

If selected, awardees will apply for a grant through FTA's Transit Award Management System (TrAMS). Recipients of Areas of Persistent Poverty Program funds are subject to the grant requirements of the Section 5303 Metropolitan Planning program, including those of FTA Circular 8100.1D and Circular 5010.1E. All competitive grants, regardless of the award amount, will be subject to the Congressional Notification and release process. Technical assistance regarding these requirements is available from each FTA regional office.

When applying for an award under this Program, eligible applicants and sub-recipients who are not direct recipients, or who have limited experience or access to FTA's Transit Award Management System (TrAMS), must secure the commitment of an active FTA direct recipient to apply for funding on their behalf through TrAMS if they are selected for an Areas of Persistent Poverty funding award. Documentation of such a commitment must be included in the application.

2. Administrative and National Policy Requirements

i. Planning

FTA encourages applicants to notify the appropriate metropolitan planning organizations in areas likely to be served by the funds made available under this program. Selected projects must be incorporated into the unified planning work programs of metropolitan areas before they are eligible for FTA funding or pre-award authority.

ii. Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project unless FTA issues a written determination otherwise. The applicant must submit the Certifications and Assurances before receiving a grant if it does not have current certifications on file.

iii. Disadvantaged Business Enterprise

FTA requires that its recipients receiving planning, capital, and/or operating assistance that will award prime contracts exceeding $250,000 in FTA funds in a Federal fiscal year comply with Department of Transportation Disadvantaged Business Enterprise (DBE) program regulations (49 CFR part 26). Applicants should expect to include any funds awarded, excluding those to be used for vehicle procurements, in setting their overall DBE goal.

3. Reporting

Post-award reporting requirements include submission of Federal Financial Reports and Milestone Progress Reports in FTA's electronic grants management system on a quarterly basis. Applicants should include any goals, targets, and indicators referenced in their application to the project in the Executive Summary of the TrAMS application. Awardees must also submit copies of the substantial deliverables identified in the work plan to the FTA regional office at the corresponding milestones.

As part of completing the annual certifications and assurances required of FTA grant recipients, a successful applicant must report on the suspension or debarment status of itself and its principals. If the award recipient's active grants, cooperative agreements, and procurement contracts from all Federal awarding agencies exceed $10,000,000 for any period of time during the period of performance of an award made pursuant to this Notice, the recipient must comply with the Recipient Integrity and Performance Matters reporting requirements described in Appendix XII to 2 CFR part 200.

G. Federal Awarding Agency Contacts

For program-specific questions, please contact Tonya P. Holland, Office of Planning and Environment, (202) 493-0283, email: Tonya.Holland@dot.gov. A TDD is available at 1-800-877-8339 (TDD/FRS). Any addenda that FTA releases on the application process will be posted at https://www.transit.dot.gov. To ensure applicants receive accurate information about eligibility or the program, the applicant is encouraged to contact FTA directly, rather than through intermediaries or third parties. FTA staff may also conduct briefings on the FY 2021 competitive grants selection and award process upon request. Contact information for FTA's regional offices can be found on FTA's website at https://www.transit.dot.gov/about/regional-offices/regional-offices.

H. Other Program Information

This program is not subject to Executive Order 12372, “Intergovernmental Review of Federal Programs.”

For assistance with GRANTS.GOV please contact GRANTS.GOV by phone at 1-800-518-4726 or by email at support@grants.gov.

Nuria I. Fernandez,
Administrator.

[FR Doc. 2021-13980 Filed 6-29-21; 8:45 am]

BILLING CODE 4910-57-P